DEPARTMENT OF EDUCATION

34 CFR Parts 75 and 611

Teacher Quality Enhancement Grants Program

AGENCY: Office of Postsecondary Education, Department of Education

ACTION: Final regulations.

SUMMARY: The Assistant Secretary for Postsecondary Education issues regulations for the three grant programs included in the Teacher Quality Enhancement Grants Program, sections 202-204 of the Higher Education Act of 1965, as amended (HEA). These regulations contain selection criteria that will be used to select applicants for awards under the State Program, Partnership Program, and Teacher Recruitment Program. These regulations also contain certain other requirements that would apply to the programs.

DATES: These regulations are effective May 11, 2000.

FOR FURTHER INFORMATION CONTACT: Kathy Price, Higher Education Programs, Office of Postsecondary Education, Office of Policy, Planning, and Innovation, 1990 K Street, NW, Washington, D.C. 20006-8525: Telephone: (202) 502-7775. Inquiries also may be sent by e-mail to: Kathy—Price@ed.gov or by FAX to: (202) 502-7775. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

Background

On October 8, 1998, the President signed into law the Higher Education Amendments of 1998 (Pub. L. 105-244). This law addresses the Nation's need to ensure that new teachers enter the classroom prepared to teach all students to high standards by authorizing, as Title II of the Higher Education Act (HEA), the Teacher Quality Enhancement Grants for States and Partnerships (Teacher Quality Programs). The new Teacher Quality Enhancement Grants Program provides an historic opportunity to effect positive change in the recruitment, preparation, licensing, and on-going support of teachers in America.

The new Teacher Quality Enhancement Grants Program consists of three different competitive grant programs: (1) The State Grants Program, which is designed to help States promote a broad array of improvements in teacher licensure, certification, preparation, and recruitment; (2) the Partnership Grants for Improving Teacher Preparation Program, which is designed to have schools of education, schools of arts and sciences, high-need local educational agencies (LEAs), and others work together to ensure that new teachers have the content knowledge and skills their students need of them when they enter the classroom; and (3) the Teacher Recruitment Grants Program, which is designed to help schools and school districts with severe teacher shortages to secure the high-quality teachers that they need. Together, these programs are designed to increase student achievement by supporting comprehensive approaches to improving teacher quality.

State Grants Program (State Program)

The State Grants Program offers a unique opportunity to support far-reaching efforts to redesign teacher education. Through the policy leadership of Governors, State legislatures, and other important partners, the program can assure the statewide support so essential to bringing about the important policy changes needed in teacher recruitment, preparation, licensing and certification, and retention. States are in the position to increase the expectations for newly state-certified and licensed teachers as well as test for and reward high-quality teaching.

Under the program, each State may develop a program application that focuses on activities it chooses to conduct in one or more areas that are key to improving the quality of new teachers. In this regard, areas in which a State may propose to focus include:

Teacher licensure, certification, and preparation policies and practices, including rigorous alternative routes to certification;

• Reforms that hold institutions of higher education (IHE) with teacher preparation programs accountable for preparing teachers who are highly competent in academic content areas and possess strong teaching skills;

• Wholesale redesign of teacher preparation programs, in collaboration with the schools of arts and sciences, in ways that promote stronger academic content and subject-matter knowledge of students in those programs;

• Improved linkages between IHEs and K-12 schools, with more time spent by college faculty and teacher education students in K-12 classrooms, and greater use of technology in the teacher education programs;

• Use of new strategies to attract, prepare, support, and retain highly competent teachers in high-poverty urban and rural areas;

• Redesign and improvement of existing teacher professional development programs to improve the content knowledge, technology skills, and teaching skills of practicing teachers;

• Improved accountability for high-quality teaching through performance-based compensation and the expeditious removal of incompetent or unqualified teachers while ensuring due process; and

• Efforts to address the problem of social promotion and to prepare teachers to deal with the issues raised by ending social promotion.

Partnership Grants for Improving Teacher Education (Partnership Program)

The purpose of the Partnership Program is to improve student learning by bringing about fundamental change and improvement in traditional teacher education programs. Through multi-year awards to a limited number of highly-committed partnerships, the Partnership Program is intended to ensure that new teachers have the content knowledge and teaching skills they need when they enter the classroom. Section 203(a) and (b) of the HEA provides that partnerships eligible for awards must comprise, at a minimum, a partnership institution, a school of arts and science, and a high-need LEA as the law defines these terms. Partnerships also may include other entities that can contribute expertise, resources or both to the teacher preparation project. A key aspect of the program is the active participation of all members of the partnership in the design and implementation of project activities.

By law, successful applicants must propose to implement certain activities:

• The reform of teacher preparation programs so that these programs become accountable for producing teachers who are highly competent in the academic content areas in which they plan to teach;

• The provision of high quality and sustained pre-service clinical experiences and mentoring for new teachers, together with a substantial increase in the interaction between teachers, principals, and higher education faculty; and

• The creation of opportunities for enhanced and ongoing professional development that improves the academic content knowledge of teachers in fields in which they are or will be certified to teach.

Beyond these minimum requirements, the Partnership Program supports activities that propose to educate teachers in ways that reflect up-to-date knowledge from research and effective practice, and embody high teaching standards. These activities include the preparation of teachers to work with diverse student populations so that all students they will teach can achieve to high State and local content and performance standards, and implementation of instructional programs whose effectiveness has been demonstrated through research.

The Partnership Program also seeks to—

• Offer alternative routes into teaching to individuals who may have had careers in other professions, in the military or in other fields, and to educational paraprofessionals;

• Prepare teachers to successfully integrate technology into teaching and learning;

• Require prospective teachers to participate in intensive, structured, and clinically-based experiences with master teachers;

• Offer continuous assistance to graduates during their initial years in the classroom; and

• Prepare school principals, superintendents, and other school administrators to employ strong management and leadership skills that can help increase student achievement.

Teacher Recruitment Grants Program (Teacher Recruitment Program)

The Teacher Recruitment Program is designed to address the challenge of America's teacher shortage by making significant and lasting systemic changes to the ways that teachers are recruited, prepared, and supported as new teachers in high-need schools. The Teacher Recruitment Program supports projects that use funds to—

• Award scholarships to help students pay the costs of tuition, room, board, and other expenses of completing a teacher training program;

• Provide support services, if needed, to enable scholarship recipients to complete postsecondary education programs; and

• Provide for follow-up services to former scholarship recipients during their first three years of teaching.

Alternatively, funds may be used to develop and implement effective mechanisms to ensure that high-need LEAs and schools are able to effectively recruit highly qualified teachers.

Both States and eligible partnerships may receive awards under the Teacher Recruitment Program. For both States and partnerships, effective relationships and partnerships among all those who will implement project activities are keys to effective Teacher Recruitment Program activities. In particular, out of these partnerships and relationships will come (1) the recruitment strategies that are so vital to meeting the severe teaching needs of the high-need LEAs, (2) the kind of teacher preparation programs, which are built around effective support from both schools of education and schools of arts and science and other areas of the IHE, that recruited individuals will need in order to be effective teachers to the diverse student populations in those LEAs, and (3) the support services these individuals will need once they begin to teach.

The Teacher Recruitment Program also anticipates that projects will provide prospective teachers with high-quality teacher preparation and induction programs that—

• Set high standards for teaching;

• Reflect the best research and practice known across the country; and

• Prepare teachers to use technology in their classrooms.

Finally, all three of the Teacher Quality Enhancement Grant Programs anticipate that when program funding ceases, the work that States and partnerships have begun will be sustained. Therefore, the ability and willingness of grantees to sustain activities after the end of the project are key determinants of success. Section 205(a)(2) of Title II permits an eligible state or eligible partnership to receive only one grant award under each of the State, Partnership, and Teacher Recruitment Programs.

On February 11, 2000, the Secretary published a notice of proposed rulemaking (NPRM) for this part in the Federal Register (65 FR 6936-6946). In the preamble to the NPRM, the Secretary discussed on pages 6938 through 6940 the content of proposed regulations for these programs. The major issues addressed by the NPRM included—

• The content of selection criteria for grant competitions conducted under the three Teacher Quality Programs;

• The use of a pre-application process to determine which applicants should be invited to submit full applications under the Partnership Program and Teacher Recruitment Program;

• The elements of a workplan that all applicants for any of the three Teacher Quality Programs would be required to submit with their full applications;

• The applicability of a maximum eight-percent indirect cost rate for all IHE and nonprofit organizations in their use of Teacher Quality Program funds.

• The requirement that recipients of State Program grants provide for each year of their grant, from non-federal sources, an amount equal to 50 percent of the State Program grant award to carry out the activities supported by the grant.

As noted in the section of this preamble entitled “Analysis of Comments and Changes,” these final regulations correct a few errors contained in the NPRM, such as the proposed requirement that applicants for Partnership or Teacher Recruitment Program grant awards submit a detailed workplan with their pre-applications rather than, as intended, with their full program applications. Otherwise, while these regulations in a few places clarify language that had been proposed, there are no differences between the final regulations and those proposed in the February 11, 2000 NPRM.

In addition, these regulations include two technical changes for which public comment is not necessary. First, these regulations correct an error made in the final regulations governing scholarships provided with Teacher Quality Program funds, which were published in the Federal Register on January 12, 2000 (65 FR 1780-1787). As published, § 611.43(d) requires grantees offering a scholarship to ensure that the scholarship agreement the recipient executes includes the current rate of interest, as provided by the Department. This provision was not included in the proposed regulations to govern the scholarships published on November 5, 1999 at 64 FR 60632-60646, but was added to the final regulations to clarify the grantees' responsibility to add the applicable interest rate annually to the approved scholarship agreements. We added this provision to establish the interest rate that would apply to any scholarship funds received under that agreement in the event the scholarship recipient failed to meet the service obligation and instead had to repay the scholarship.

However, the terms of the scholarship agreement provide that the recipient is not liable for repayment of the scholarship until the Department first has determined that he or she has not fulfilled the service obligation. Therefore, in accordance with 31 U.S.C. 3717, the rate of interest that should apply to the amount of scholarship that a recipient must repay for failure to meet the service obligation is the rate in effect when the indebtedness is established, not the rate in effect when the recipient received the scholarship. Section 611.43(d) has been amended to reflect this change by deleting the additional provision added to the final regulations. Scholarship recipients who have executed scholarship agreements with a stated rate of interest prior to the effective date of these regulations will be given a choice of—

• Retaining this rate of interest for the portion of their scholarship they have received prior to the effective date of these regulations; or

• Having the interest rate in effect if and when the recipient fails to meet the service obligation apply to both this portion of the scholarship and to scholarship amount received after the regulations' effective date.

In addition, these regulations amend § 75.60(b) of the Education Department General Administrative Regulations (EDGAR). Section 75.60(b) contains a list of Departmental scholarship, fellowship, discretionary grant, and loan programs for which an individual who has received financial assistance must be current in any payments that are due as a condition of eligibility for financial assistance under this or other Department programs. When § 75.60 was proposed on August 18, 1992 (53 FR 31580), the Department announced its intent to apply this rule generally to all Department scholarship or fellowship programs to which part 75 applies. Since part 75 applies to the Teacher Quality Programs and to all other Department discretionary grant programs, we now are adding the Teacher Quality Programs to the list of programs in § 75.60 that are covered by this rule.

Analysis of Comments and Changes

In response to the Assistant Secretary's invitation in the NPRM, we received two comments. An analysis of the comments follows. Generally, we do not address technical and other minor changes—and suggested changes the law does not authorize the Secretary to make.

Comment: The commenters questioned several aspects of the proposed regulations, and asked us to clarify the language of a number of provisions. For example, they objected to language in proposed § 611.2 that would have all those who wish to receive grant awards under the Partnership or Teacher Recruitment Programs submit detailed workplans as part of those pre-applications. One commenter requested that we revisit page limitations of pre-applications in view of the changes in criteria from those used last year under the Partnership program for FY 1999 grants. The commenter asked that we clarify how the Department would implement the tie-breaking measure for applications with the most impact on the nation's Empowerment Zones and Enterprise Communities § 611.2), specifically whether we would use factors such as the number of affected Empowerment Zones and Enterprise Communities, or the number of teachers whom a proposed project would recruit to teach in their schools. The commenter also asked that we clarify how the competitive preference for the State Grants Program (§ 611.13) would work, and how the preference differs from more general State Program activities that the statute authorizes. Finally, the commenter recommended that we clarify aspects of the pre-application and general application selection criteria for the Partnership Program, and general selection criteria for the State Program, to clarify these criteria and the points to be awarded under them.

Discussion: In view of the comment, we have modified the proposed regulations in a number of ways. Sections 611.2 and 611.3 now clarify that only applicants submitting a full application for a Teacher Quality Program grant must submit a detailed workplan. Those submitting pre-applications under the Partnership or Teacher Recruitment Programs will not need to submit workplans with their pre-applications. The final regulations also correct several technical errors that the commenter identified in the proposed regulations. The program application packages, and not these regulations, identify the maximum number of points that reviewers will award applications under the elements of each criterion.

We continue to believe that the proposed language in § 611.2, which would resolve any ties in scoring applications on the basis of a project's relative impact on the nation's Empowerment Zones and Enterprise Communities, is adequate. It provides the Department the latitude to resolve ties on a case-by-case basis in ways that permit us comprehensively to examine the likely impact of a project on the nation's Empowerment Zones and Enterprise Communities. With regard to the proposed competitive preference in § 611.13, we agree with the commenter that each of the three activities entitling an applicant to a preference mirrors activities that section 202 of Title II authorizes. However, the competitive preference in § 611.13 reflects statutory requirements of section 205(b)(2) of the HEA, in which Congress identified certain allowable State Program activities as deserving of this preference.

Changes: The final regulations for this part have been revised accordingly.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

These regulations address the National Education Goal that the Nation's teaching force will have the content knowledge and teaching skills needed to instruct all American students for the next century.

Paperwork Reduction Act of 1995

The Paperwork Reduction Act of 1995 does not require you to respond to a collection of information unless it displays a valid OMB control number. We display the valid OMB control numbers assigned to the collections of information in these final regulations at the end of the affected sections of the regulations.

Waiver of Proposed Rulemaking

Under the Administrative Procedure Act (5 U.S.C. 553) the Department generally offers interested parties the opportunity to comment on proposed regulations. However, two regulations announced included in these final regulations are being issued without public comment. The correction of § 611.43(d) reflects a legal requirement governing when a Teacher Quality program scholarship recipient incurs liability for failure to meet the service obligation, and hence no public comment is needed. The amendment to § 75.60(b) of EDGAR, which includes the Teacher Quality Enhancement Grants Program in the list of Department programs for which individuals must be current in their payments or be ineligible for further financial assistance provided by Department programs is a technical amendment. The Department already took public comment on the content of § 75.60(b) before the regulation was published as a final regulation on August 18, 1992 (53 FR 31580). Therefore, under 5 U.S.C. 553(b)(B), the Secretary has determined that proposed regulations are unnecessary and contrary to the public interest.

Intergovernmental Review

This program is subject to the requirements of Executive Order 12372 and the regulations in 34 CFR Part 79. The objective of the Executive order is to foster an intergovernmental partnership and a strengthened federalism by relying on processes developed by State and local governments for coordination and review of proposed Federal financial assistance.

In accordance with the order, we intend this document to provide early notification of specific plans and actions for this program.

Assessment of Educational Impact

In the NPRM we requested comments on whether the proposed regulations would require transmission of information that any other agency or authority of the United States gathers or makes available.

Based on the response to the NPRM and on our review, we have determined that these final regulations do not require transmission of information that any other agency or authority of the United States gathers or makes available.

Electronic Access to This Document

You may review this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of these sites. If you have questions about using the PDF, call the U.S. Government Printing Office (GPO) toll free, at 1-888-293-6498; or in the Washington, DC area at (202) 512-1530.

Note: The official version of the document is the document published in the Federal Register. Free Internet access to the official edition of the Federal Register and the Code of Federal Regulations is available on GPO Access at: http://www.access.gpo.gov/nara/index.html

(Catalog of Federal Domestic Assistance Number 84.336: Teacher Quality Enhancement Grants Program)

List of Subjects

34 CFR part 75

Administrative practice and procedure, Education Department, Grant programs—education, Grant administration, Incorporation by reference, Performance reports, Reporting and recordkeeping requirements, Unobligated funds.

34 CFR part 611

Colleges and universities, Elementary and secondary education, Grant programs—education.

Dated: April 5, 2000.
Claudio R. Prieto,
Acting Assistant Secretary for Postsecondary Education.

For the reasons stated in the preamble, the Secretary amends parts 75 and 611 of title 34 of the Code of Federal Regulations as follows:

PART 75—DIRECT GRANT PROGRAMS

1. The authority citation for part 75 continues to read as follows:

Authority: 20 U.S.C. 1221e-3 and 3474

2. Section 75.60 is amended by adding a new paragraph (b) (7) to read as follows:

§ 75.60 Individuals ineligible to receive assistance.

* * * * *

(b) * * *

(7) A scholarship awarded under the Teacher Quality Enhancement Grants Program (20 U.S.C. 1021 et seq.).

PART 611—TEACHER QUALITY ENHANCEMENT GRANTS PROGRAM

1. The authority citation for part 611 continues to read as follows:

Authority: 20 U.S.C. 1021 et seq., unless otherwise noted.

2-3. Sections 611.2 and 611.3 are added to Subpart A of part 611 to read as follows:

§ 611.2 What management plan must be included in a Teacher Quality Enhancement Grants Program application?

(a) In addition to a description of the proposed multiyear project, timeline, and budget information required by 34 CFR 75.112 and 75.117 and other applicable law, an applicant for a grant under this part must submit with its application under paragraphs (a)(1), (a)(2)(iii), or (a)(3)(iii) of § 611.3, as appropriate, a management plan that includes a proposed multiyear workplan.

(b) At a minimum, this workplan must identify, for each year of the project—

(1) The project's overall objectives;

(2) Activities that the applicant proposes to implement to promote each project objective;

(3) Benchmarks and timelines for conducting project activities and achieving the project's objectives;

(4) The individual who will conduct and coordinate these activities;

(5) Measurable outcomes that are tied to each project objective, and the evidence by which success in achieving these objectives will be measured; and

(6) Any other information that the Secretary may require.

(c)(1) In any application for a grant that is submitted on behalf of a partnership, the workplan also must identify which partner will be responsible for which activities.

(2) In any application for a grant that is submitted on behalf of a State, the workplan must identify which entities in the State will be responsible for which activities.

(Approved by the Office of Management and Budget under control number 1840-0007.)

(Authority: 20 U.S.C. 1021 et seq.)

§ 611.3 What procedures does the Secretary use to award a grant?

The Secretary uses the selection procedures in 34 CFR 75.200 through 75.222 except that—

(a) Application procedures for each program. (1) For the State Grants Program, the Secretary evaluates applications for new grants on the basis of the selection criteria and competitive preference contained in §§ 611.11 through 611.13.

(2) For the Partnership Grants Program, the Secretary—

(i) Uses a two-stage application process to determine which applications to fund;

(ii) Uses the selection criteria in §§ 611.21 through 611.22 to evaluate pre-applications submitted for new grants, and to determine those applicants to invite to submit full program applications; and

(iii) For those applicants invited to submit full applications, uses the selection criteria and competitive preference in §§ 611.23-611.25 to evaluate the full program applications.

(3) For the Teacher Recruitment Grants Program, the Secretary—

(i) Uses a two-stage application process to determine which applications to fund;

(ii) Uses the selection criteria in § 611.31 to evaluate pre-applications submitted for new grants, and to determine those applicants to invite to submit full program applications; and

(iii) For those applicants invited to submit full applications, uses the selection criteria in § 611.32 to evaluate the full program applications.

(b) Required budgets in pre-applications. An applicant that submits a pre-application for a Partnership Program or Teacher Recruitment Program grant under paragraphs (b)(2)(ii) and (b)(3)(ii) must also submit any budgetary information that the Secretary may require in the program application package.

(c) Tie-breaking procedures. In the event that two or more applicants are ranked equally for the last available award under any program, the Secretary selects the applicant whose activities will focus (or have most impact) on LEAs and schools located in one (or more) of the Nation's Empowerment Zones and Enterprise Communities.

(Approved by the Office of Management and Budget under control number 1840-0007.)

(Authority: 20 U.S.C. 1021 et seq.)

4. Subpart B, consisting of §§ 611.11 through 611.13, is added to part 611, to read as follows:

Subpart B—State Grants Program
611.11 What are the program's general selection criteria?
611.12 What additional selection criteria are used for an application proposing teacher recruitment activities?
611.13 What competitive preference doe the Secretary provide?

§ 611.11 What are the program's general selection criteria?

Subpart B—State Grants Program

In evaluating the quality of applications, the Secretary uses the following selection criteria.

(a) Quality of project design. (1) The Secretary considers the quality of the project design.

(2) In determining the quality of the project design, the Secretary considers the extent to which—

(i) The project design will result in systemic change in the way that all new teachers are prepared, and includes partners from all levels of the education system;

(ii) The Governor and other relevant executive and legislative branch officials, the K-16 education system or systems, and the business community are directly involved in and committed to supporting the proposed activities;

(iii) Project goals and performance objectives are clear, measurable outcomes are specified, and a feasible plan is presented for meeting them;

(iv) The project is likely to initiate or enhance and supplement systemic State reforms in one or more of the following areas: teacher recruitment, preparation, licensing, and certification;

(v) The applicant will ensure that a diversity of perspectives is incorporated into operation of the project, including those of parents, teachers, employers, academic and professional groups, and other appropriate entities; and

(vi) The project design is based on up-to-date knowledge from research and effective practice.

(b) Significance. (1) The Secretary considers the significance of the project.

(2) In determining the significance of the project, the Secretary considers the extent to which—

(i) The project involves the development or demonstration of promising new strategies or exceptional approaches in the way new teachers are recruited, prepared, certified, and licensed;

(ii) Project outcomes lead directly to improvements in teaching quality and student achievement as measured against rigorous academic standards;

(iii) The State is committed to institutionalize the project after federal funding ends; and

(iv) Project strategies, methods, and accomplishments are replicable, thereby permitting other States to benefit from them.

(c) Quality of resources. (1) The Secretary considers the quality of the project's resources.

(2) In determining the quality of the project resources, the Secretary considers the extent to which—

(i) Support available to the project, including personnel, equipment, supplies, and other resources, is sufficient to ensure a successful project;

(ii) Budgeted costs are reasonable and justified in relation to the design, outcomes, and potential significance of the project; and

(iii) The applicant's matching share of the budgeted costs demonstrates a significant commitment to successful completion of the project and to project continuation after federal funding ends.

(d) Quality of management plan. (1) The Secretary considers the quality of the project's management plan.

(2) In determining the quality of the management plan, the Secretary considers the following factors:

(i) The extent to which the management plan, including the workplan, is designed to achieve goals and objectives of the project, and includes clearly defined activities, responsibilities, timelines, milestones, and measurable outcomes for accomplishing project tasks.

(ii) The adequacy of procedures to ensure feedback and continuous improvements in the operation of the project.

(iii) The qualifications, including training and experience, of key personnel charged with implementing the project successfully.

(Approved by the Office of Management and Budget under control number 1840-0007.)

(Authority: 20 U.S.C. 1021 et seq.)

§ 611.12 What additional selection criteria are used for an application proposing teacher recruitment activities?

In reviewing applications that propose to undertake teacher recruitment activities, the Secretary also considers the following selection criteria:

(a) In addition to the elements contained in § 611.11(a) (Quality of project design), the Secretary considers the extent to which the project addresses—

(1) Systemic changes in the ways that new teachers are to be recruited, supported and prepared; and

(2) Systemic efforts to recruit, support, and prepare prospective teachers from disadvantaged and other underrepresented backgrounds.

(b) In addition to the elements contained in § 611.11(b) (Significance), the Secretary considers the applicant's commitment to continue recruitment activities, scholarship assistance, and preparation and support of additional cohorts of new teachers after funding under this part ends.

(c) In addition to the elements contained in § 611.11(c) (Quality of resources), the Secretary considers the impact of the project on high-need LEAs and high-need schools based upon—

(1) The amount of scholarship assistance the project will provide students from federal and non-federal funds;

(2) The number of students who will receive scholarships; and

(3) How those students receiving scholarships will benefit from high-quality teacher preparation and an effective support system during their first three years of teaching.

(Approved by the Office of Management and Budget under control number 1840-0007.)

(Authority: 20 U.S.C. 1021 et seq.)

§ 611.13 What competitive preference does the Secretary provide?

The Secretary provides a competitive preference on the basis of how well the State’s proposed activities in any one or more of the following statutory priorities are likely to yield successful and sustained results:

(a) Initiatives to reform State teacher licensure and certification requirements so that current and future teachers possess strong teaching skills and academic content knowledge in the subject areas in which they will be certified or licensed to teach.

(b) Innovative reforms to hold higher education institutions with teacher preparation programs accountable for preparing teachers who are highly competent in the academic content areas and have strong teaching skills.

(c) Innovative efforts to reduce the shortage (including the high turnover) of highly competent teachers in high-poverty urban and rural areas.

(Approved by the Office of Management and Budget under control number 1840-0007.)

(Authority: 20 U.S.C. 1021 et seq.)

5. Subpart C, consisting of §§ 611.21 through 611.25, is added to part 611, to read as follows:

Subpart C—Partnership Grants Program
611.21 What are the program's selection criteria for pre-applications?
611.22 What additional selection criteria are used for pre-application that proposes teacher recruitment activities?
611.23 What are the program's general selection criteria for full applications?
611.24 What additional selection criteria are used for a full application that proposes teacher recruitment activities?
611.25 What competitive preference does the Secretary provide?

Subpart C—Partnership Grants Program

§ 611.21 What are the program's selection criteria for pre-applications?

In evaluating the quality of pre-applications, the Secretary uses the following selection criteria.

(a) Project goals and objectives. (1) The Secretary considers the goals and objectives of the project design.

(2) In determining the quality of the project goals and objectives, the Secretary considers the following factors:

(i) The extent to which the partnership's vision will produce significant and sustainable improvements in teacher education.

(ii) The needs the partnership will address.

(iii) How the partnership and its activities would be sustained once federal support ends.

(b) Partnering commitment. (1) The Secretary considers the partnering commitment embodied in the project.

(2) In determining the quality of the partnering commitment, the Secretary considers the following factors:

(i) Evidence of how well the partnership would be able to accomplish objectives working together that its individual members could not accomplish working separately.

(ii) The significance of the roles given to each principal partner in implementing project activities.

(c) Quality and comprehensiveness of key project components. (1) The Secretary considers the quality and comprehensiveness of key project components in the process of preparing new teachers.

(2) In determining the quality and comprehensiveness of key project components in the process of preparing new teachers, the Secretary considers the extent to which—

(i) Specific activities are designed and would be implemented to ensure that students preparing to be teachers are adequately prepared, including activities designed to ensure that they have improved content knowledge, are able to use technology effectively to promote instruction, and participate in extensive, supervised clinical experiences;

(ii) Specific activities are designed and would be implemented to ensure adequate support for those who have completed the teacher preparation program during their first years as teachers; and

(iii) The project design reflects up-to-date knowledge from research and effective practice.

(d) Specific project outcomes. (1) The Secretary considers the specific outcomes the project would produce in the preparation of new teachers.

(2) In determining the specific outcomes the project would produce in the preparation of new teachers, the Secretary considers the following factors:

(i) The extent to which important aspects of the partnership's existing teacher preparation system would change.

(ii) The way in which the project would demonstrate success using high-quality performance measures.

(Approved by the Office of Management and Budget under control number 1840-0007.)

(Authority: 20 U.S.C. 1021 et seq.)

§ 611.22 What additional selection criteria are used for a pre-application that proposes teacher recruitment activities?

In reviewing pre-applications that propose to undertake teacher recruitment activities, the Secretary also considers the following selection criteria:

(a) In addition to the elements contained in § 611.21(a) (Project goals and objectives), the Secretary considers the extent to which—

(1) The partnership's vision responds to LEA needs for a diverse and high quality teaching force, and will lead to reduced teacher shortages in these high-need LEAs; and

(2) The partnership will sustain its work after federal funding has ended by recruiting, providing scholarship assistance, training and supporting additional cohorts of new teachers.

(b) In addition to the elements contained in § 611.21(c) (Quality and comprehensiveness of key project components), the Secretary considers the extent to which the project will—

(1) Significantly improve recruitment of new students, including those from disadvantaged and other underrepresented backgrounds; and

(2) Provide scholarship assistance and adequate training to preservice students, as well as induction support for those who become teachers after graduating from the teacher preparation program.

(c) In addition to the elements contained in § 611.21(d) (Specific project outcomes), the Secretary considers the extent to which the project addresses the number of new teachers to be produced and their ability to teach effectively in high-need schools.

(Approved by the Office of Management and Budget under control number 1840-0007.)

(Authority: 20 U.S.C. 1021 et seq.)

§ 611.23 What are the program's general selection criteria for full applications?

In evaluating the quality of applications, the Secretary uses the following selection criteria.

(a) Quality of project design. (1) The Secretary considers the quality of the project design.

(2) In determining the quality of the project design, the Secretary considers the following factors:

(i) The extent of evidence of institution-wide commitment to high quality teacher preparation that includes significant policy and practice changes supported by key leaders, and which result in permanent changes to ensure that preparing teachers is a central mission of the entire university.

(ii) The extent to which the partnership creates and sustains collaborative mechanisms to integrate professional teaching skills, including skills in the use of technology in the classroom, with strong academic content from the arts and sciences.

(iii) The extent of well-designed and extensive preservice clinical experiences for students, including mentoring and other forms of support, implemented through collaboration between the K-12 and higher education partners.

(iv) Whether a well-planned, systematic induction program is established for new teachers to increase their chances of being successful in high-need schools.

(v) The strength of linkages within the partnership between higher education and high-need schools or school districts so that all partners have important roles in project design, implementation, governance and evaluation.

(vi) Whether the project design is based on up-to-date knowledge from research and effective practice, especially on how students learn.

(b) Significance of project activities. (1) The Secretary considers the significance of project activities.

(2) In determining the significance of the project activities, the Secretary considers the following factors:

(i) How well the project involves promising new strategies or exceptional approaches in the way new teachers are recruited, prepared and inducted into the teaching profession.

(ii) The extent to which project outcomes include preparing teachers to teach to their State's highest K-12 standards, and are likely to result in improved K-12 student achievement.

(iii) The extent to which the partnership has specific plans to institutionalize the project after federal funding ends.

(iv) The extent to which the partnership is committed to disseminating effective practices to others and is willing to provide technical assistance about ways to improve teacher education.

(v) How well the partnership will integrate its activities with other education reform efforts underway in the State or communities where the partners are located, and will coordinate its work with local, State or federal teacher training, teacher recruitment, or professional development programs.

(c) Quality of resources. (1) The Secretary considers the quality of resources of project activities.

(2) In determining the quality of resources, the Secretary considers the extent to which—

(i) Support available to the project, including personnel, equipment, supplies, and other resources, is sufficient to ensure a successful project;

(ii) Budgeted costs are reasonable and justified in relation to the design, outcomes, and potential significance of the project; and

(iii) The applicant's matching share of the budgeted costs demonstrates a significant commitment to successful completion of the project and to project continuation after federal funding ends.

(d) Quality of management plan. (1) The Secretary considers the quality of the management plan.

(2) In determining the quality of the management plan, the Secretary considers the following factors:

(i) The extent to which the management plan, including the work plan, is designed to achieve goals and objectives of the project, and includes clearly defined activities, responsibilities, timelines, milestones, and measurable outcomes for accomplishing project tasks.

(ii) The extent to which the project has an effective, inclusive, and responsive governance and decision-making structure that will permit all partners to participate in and benefit from project activities, and to use evaluation results to ensure continuous improvements in the operations of the project.

(iii) The qualifications, including training and experience, of key personnel charged with implementing the project successfully.

(Approved by the Office of Management and Budget under control number 1840-0007.)

(Authority: 20 U.S.C. 1021 et seq.)

§ 611.24 What additional selection criteria are used for a full application that proposes teacher recruitment activities?

In reviewing full applications that propose to undertake teacher recruitment activities, the Secretary also considers the following selection criteria:

(a) In addition to the elements contained in § 611.23(a) (Quality of project design), the Secretary considers the extent to which the project reflects—

(1) A commitment to recruit, support and prepare additional well-qualified new teachers for high-need schools;

(2) Appropriate academic and student support services; and

(3) A comprehensive strategy for addressing shortages of well-qualified and well-trained teachers in high-need LEAs, especially teachers from disadvantaged and other underrepresented backgrounds.

(b) In addition to the elements contained in § 611.23(b) (Significance of project activities), the Secretary considers the extent to which the project promotes the recruitment, scholarship assistance, preparation, and support of additional cohorts of new teachers.

(c) In addition to the elements contained in § 611.23(c) (Quality of resources), the Secretary considers the impact of the project on high-need LEAs and high-need schools based upon—

(1) The amount of scholarship assistance the project will provide students from federal and non-federal funds;

(2) The number of students who will receive scholarships; and

(3) How those students receiving scholarships will benefit from high-quality teacher preparation and an effective support system during their first three years of teaching.

(Approved by the Office of Management and Budget under control number 1840-0007.)

(Authority: 20 U.S.C. 1021 et seq.)

§ 611.25 What competitive preference does the Secretary provide?

The Secretary provides a competitive preference on the basis of how well the project includes a significant role for private business in the design and implementation of the project.

(Approved by the Office of Management and Budget under control number 1840-0007.)

(Authority: 20 U.S.C. 1021 et seq.)

6. Subpart D, consisting of §§ 611.31 and 611.32, is added to part 611, to read as follows:

Subpart D—Teacher Recruitment Grants Program

611.31 What are the program’s selection criteria for pre-applications?
611.32 What are the program’s general selection criteria?

Subpart D—Teacher Recruitment Grants Program

§ 611.31 What are the program’s selection criteria for pre-applications?

In evaluating pre-applications, the Secretary considers the following criteria:

(a) Project goals and objectives. (1) The Secretary considers the goals and objectives of the project design.

(2) In determining the quality of the project goals and objectives, the Secretary considers how the partnership or State applicant intends to—

(i) Produce significant and sustainable improvements in teacher recruitment, preparation, and support; and

(ii) Reduce teacher shortages in high-need LEAs and schools, and improve student achievement in the schools in which teachers who participate in its project will teach.

(b) Partnership commitment. (1) The Secretary considers the partnering commitment embodied in the project.

(2) In determining the quality of the partnering commitment, the Secretary considers the following factors:

(i) What the partnership, or the State and its cooperating entities, can accomplish by working together that could not be achieved by working separately.

(ii) How the project proposed by the partnership or State is driven by the needs of LEA partners.

(c) Quality of key project components. (1) The Secretary considers the quality of key project components.

(2) In determining the quality of key project components, the Secretary considers the following factors:

(i) The extent to which the project would make significant and lasting systemic changes in how the applicant recruits, trains, and supports new teachers, and reflects knowledge gained from research and practice.

(ii) The extent to which the project would be implemented in ways that significantly improve recruitment, scholarship assistance to preservice students, training, and induction support for new entrants into teaching.

(d) Specific project outcomes. (1) The Secretary considers the specific outcomes the project would produce in the recruitment, preparation, and placement of new teachers.

(2) In determining the specific outcomes the project would produce in the recruitment, preparation, and placement of new teachers, the Secretary considers the following factors:

(i) The number of teachers to be produced and the quality of their preparation.

(ii) The partnership's or State's commitment to sustaining the work of the project after federal funding has ended by recruiting, providing scholarship assistance, training, and supporting additional cohorts of new teachers.

(Approved by the Office of Management and Budget under control number 1840-0007.)

(Authority: 20 U.S.C. 1021 et seq.)

§ 611.32 What are the program's general selection criteria?

In evaluating the quality of full applications, the Secretary uses the following selection criteria.

(a) Quality of the project design. (1) The Secretary considers the quality of the project design for ensuring that activities to recruit and prepare new teachers are a central mission of the project.

(2) In considering the quality of the project design for ensuring that activities to recruit and prepare new teachers are a central mission of the project, the Secretary considers the extent to which the project design—

(i) Shows evidence of institutional or (in the case of a State applicant) State-level commitment both to recruitment of additional new teachers, and to high-quality teacher preparation that includes significant policy and practice changes supported by key leaders and that result in permanent changes to current institutional practices;

(ii) Creates and sustains collaborative mechanisms to integrate professional teaching skills, including skills in the use of technology in the classroom, with academic content provided by the school of arts and sciences;

(iii) Includes well-designed academic and student support services as well as carefully planned and extensive preservice clinical experiences for students, including mentoring and other forms of support, that are implemented through collaboration between the K-12 and higher education partners;

(iv) Includes establishment of a well-planned, systematic induction program for new teachers that increases their chances of being successful in high-need schools;

(v) Includes strong linkages among the partner institutions of higher education and high-need schools and school districts (or, in the case of a State applicant, between the State and these entities in its project), so that all those who would implement the project have important roles in project design, implementation, governance, and evaluation;

(vi) Responds to the shortages of well-qualified and well-trained teachers in high-need school districts, especially from disadvantaged and other underrepresented backgrounds; and

(vii) Is based on up-to-date knowledge from research and effective practice.

(b) Significance. (1) The Secretary considers the significance of the project.

(2) In determining the significance of the project, the Secretary considers the extent to which—

(i) The project involves promising new strategies or exceptional approaches in the way new teachers are recruited, prepared, and inducted into the teaching profession;

(ii) Project outcomes include measurable improvements in teacher quality and in the number of well-prepared new teachers, that are likely to result in improved K-12 student achievement;

(iii) The project will be institutionalized after federal funding ends, including recruitment, scholarship assistance, preparation, and support of additional cohorts of new teachers;

(iv) The project will disseminate effective practices to others, and provide technical assistance about ways to improve teacher recruitment and preparation; and

(v) The project will integrate its activities with other education reform activities underway in the State or communities in which the project is based, and will coordinate its work with local, State, and federal teacher recruitment, training, and professional development programs.

(c) Quality of resources. (1) The Secretary considers the quality of the project's resources.

(2) In determining the quality of the project's resources, the Secretary considers the extent to which—

(i) The amount of support available to the project, including personnel, equipment, supplies, student scholarship assistance, and other resources is sufficient to ensure a successful project.

(ii) Budgeted costs are reasonable and justified in relation to the design, outcomes, and potential significance of the project.

(iii) The applicant's matching share of budgeted costs demonstrates a significant commitment to successful completion of the project, and to project continuation after federal funding ends.

(d) Quality of management plan. (1) The Secretary considers the quality of the project's management plan.

(2) In determining the quality of the management plan, the Secretary considers the following factors:

(i) The extent to which the management plan, including the workplan, is designed to achieve goals and objectives of the project, and includes clearly defined activities, responsibilities, timelines, milestones, and measurable outcomes for accomplishing project tasks.

(ii) The extent to which the project has an effective, inclusive, and responsive governance and decisionmaking structure that will permit all partners to participate in and benefit from project activities, and to use evaluation results to continuously improve project operations.

(iii) The qualifications, including training and experience, of key personnel charged with implementing the project successfully.

(Approved by the Office of Management and Budget under control number 1840-0007.)

(Authority: 20 U.S.C. 1021 et seq.)

7. Section 611.43 is amended by revising paragraph (d) to read as follows:

§ 611.43 What are the consequences of a scholarship recipient's failure to meet the service obligation?

* * * * *

(d) Interest. In accordance with 31 U.S.C. 3717 and 34 CFR part 30, the Secretary charges interest on the unpaid balance that the scholarship recipient owes. However, except as provided in § 611.44(d), the Secretary does not charge interest for the period of time that precedes the date on which the scholarship recipient is required to begin repayment.

* * * * *

8. Subpart F of part 611 is revised to read as follows:

Subpart F—Other Grant Conditions

Subpart F—Other Grant Conditions
611.61 What is the maximum indirect cost rate that applies to a recipient's use of program funds?
611.62 What are a grantee's matching requirements?

§ 611.61 What is the maximum indirect cost rate that applies to a recipient's use of program funds?

Notwithstanding 34 CFR 75.560-75.562 and 34 CFR 80.22, the maximum indirect cost rate that any recipient of funds under the Teacher Quality Enhancement Grants Program may use to charge indirect costs to these funds is the lesser of—

(a) The rate established by the negotiated indirect cost agreement; or

(b) Eight percent.

(Authority: 20 U.S.C. 1021 et seq.)

§ 611.62 What are a grantee's matching requirements?

(a)(1) Each State receiving a grant under the State Grants Program or Teacher Recruitment Grants Program must provide, from non-federal sources, an amount equal to 50 percent of the amount of the grant to carry out the activities supported by the grant.

(2) The 50 percent match required by paragraph (a)(1) of this section must be made annually during the project period, with respect to each grant award the State receives.

(b) Each partnership receiving a grant under the Partnership Grant Program or the Teacher Recruitment Grant Program must provide, from non-federal sources, an amount equal to—

(1) 25 percent of the grant award for the first year of the grant;

(2) 35 percent of the grant award for the second year of the grant; and

(3) 50 percent of the grant award for each succeeding year of the grant.

(c) The match from non-federal sources required by paragraphs (a) and (b) of this section may be made in cash or in kind.

(Authority: 20 U.S.C. 1021 et seq.)

[FR Doc. 00-8890 Filed 4-10-00; 8:45 am]

BILLING CODE 4000-01-U